JUDICIAL CONFERENCE OF THE UNITED STATES

Meeting of the Judicial Conference Advisory Committee on Rules of Appellate Procedure

AGENCY: Judicial Conference of the United States Advisory Committee on Rules of Appellate Procedure.

ACTION: Notice of Open Meeting.

SUMMARY: The Advisory Committee on Rules of Appellate Procedure will hold a two-day meeting. The meeting will be open to public observation but not participation.

DATES: November 13-14, 2008.

Time: 8:30 a.m. to 5 p.m.

ADDRESSES: Charleston Place Hotel, 205 Meeting Street, Charleston, SC 29401

FOR FURTHER INFORMATION CONTACT: John K. Rabiej, Chief, Rules Committee Support Office, Administrative Office of the United States Courts, Washington, DC 20544, telephone (202) 502-1820.

Dated: June 23, 2008.
John K. Rabiej,
Chief, Rules Committee Support Office.

[FR Doc. E8-14750 Filed 6-30-08; 8:45 am]

BILLING CODE 2210-55-M